DEPARTMENT OF COMMERCE

International Trade Administration

[A-580-881]

Certain Cold-Rolled Steel Flat Products From the Republic of Korea: Final Results of Antidumping Duty Administrative Review; 2019-2020

AGENCY: Enforcement and Compliance, International Trade Administration, Department of Commerce.

SUMMARY: The Department of Commerce (Commerce) determines that certain cold-rolled steel flat products (cold-rolled steel) from the Republic of Korea were not sold in the United States at less than normal value during the period of review (POR), September 1, 2019, through August 31, 2020.

DATES: Applicable March 18, 2022.

FOR FURTHER INFORMATION CONTACT: Fred Baker or Preston Cox, AD/CVD Operations, Office VI, Enforcement and Compliance, International Trade Administration, U.S. Department of Commerce, 1401 Constitution Avenue NW, Washington, DC 20230; telephone: (202) 482-2924 or (202) 482-5041, respectively.

SUPPLEMENTARY INFORMATION:

Background

On October 6, 2021, Commerce published the Preliminary Results of this administrative review in the Federal Register.¹ We invited interested parties to comment on the Preliminary Results.² This administrative review covers two mandatory respondents: Hyundai Steel Company (Hyundai) and POSCO/POSCO International Corporation (PIC) (collectively, POSCO/PIC).³ This administrative review also covers 38 producers and/or exporters of subject merchandise. The list of producers/exporters not selected for individual examination is attached as Appendix II to this notice.

¹ See Certain Cold Rolled Steel Flat Products from the Republic of Korea: Preliminary Results of Antidumping Duty Administrative Review; 2019-2020, 86 FR 55584 (October 6, 2021) (Preliminary Results), and accompanying Preliminary Decision Memorandum (PDM).

² See Preliminary Results, 86 FR at 55585.

³ Commerce continues to treat POSCO and POSCO International Corporation as a collapsed single entity for the final results of this review. See Preliminary Results PDM at 1; see also Certain Cold-Rolled Steel Flat Products from the Republic of Korea: Final Results of Antidumping Duty Administrative Review; 2018-2019, 86 FR 40808 (July 29, 2021), and accompanying Issues and Decision Memorandum at 6 n.16.

On November 5, 2021, Hyundai submitted a case brief.⁴ No other party submitted case or rebuttal briefs. On February 1, 2022, we extended the deadline for these final results to no later than March 18, 2022.⁵ For a complete description of the events that followed the Preliminary Results, see the Issues and Decision Memorandum.⁶

⁴ See Hyundai's Letter, “Certain Cold Rolled Steel Flat Products from the Republic of Korea: Hyundai Steel's Case Brief,” dated November 5, 2021.

⁵ See Memorandum, “Certain Cold-Rolled Steel Flat Products from the Republic of Korea: Extension of Deadline for Final Results of 2019-2020 Antidumping Duty Administrative Review,” dated February 1, 2022.

⁶ See Memorandum, “Issues and Decision Memorandum for the Final Results of the Antidumping Duty Administrative Review: Certain Cold-Rolled Steel Flat Products from the Republic of Korea; 2019-2020,” dated concurrently with, and hereby adopted by, this notice (Issues and Decision Memorandum).

Commerce conducted this administrative review in accordance with section 751(a) of the Tariff Act of 1930, as amended (the Act).

Scope of the Order ⁷

⁷ See Certain Cold Rolled Steel Flat Products from Brazil, India, the Republic of Korea, and the United Kingdom: Amended Final Affirmative Antidumping Determinations for Brazil and the United Kingdom and Antidumping Duty Orders, 81 FR 64432 (September 20, 2016) (Order).

The product covered by the Order is cold-rolled steel from the Republic of Korea. For a complete description of the scope of this administrative review, see the Issues and Decision Memorandum.⁸

⁸ See Issues and Decision Memorandum at 2-5.

Analysis of Comments Received

All issues raised in the case brief filed by Hyundai, an interested party in this review, are discussed in the Issues and Decision Memorandum. A list of the issues which Hyundai raised, and to which we responded in the Issues and Decision Memorandum, is attached as Appendix I to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Changes Since the Preliminary Results

Based on a review of the record and our analysis of the comments received, we made certain changes to the margin calculation for Hyundai. For a complete discussion of these changes, see the Issues and Decision Memorandum.

Rate for Non-Selected Respondents

The Act and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally an amount equal to the weighted average of the estimated weighted-average dumping margins established for exporters and producers individually examined, excluding any margins that are zero, de minimis (i.e., less than 0.5 percent), or determined entirely on the basis of facts available.

Consistent with our practice and section 735(c)(5)(A) of the Act, for the companies that were not selected for individual review, we assigned a rate based on the rates of the respondents that were selected for individual examination. Consistent with the U.S. Court of Appeals for the Federal Circuit's decision in Albemarle, we are assigning to the 38 companies not selected for individual examination the zero percent rates calculated for the mandatory respondents, Hyundai and POSCO/PIC.⁹ These are the only rates determined in this review for individual respondents and, thus, we determine that they apply to the 38 firms not selected for individual examination under section 735(c)(5)(B) of the Act.

⁹ See Albemarle Corp. v. United States, 821 F.3d 1345 (Fed. Cir. 2016) (Albemarle).

¹⁰ See Appendix II for a full list of the non-selected companies.

Final Results of the Administrative Review

For these final results, we determine that the following weighted-average dumping margins exist for the period September 1, 2019, through August 31, 2020:

Producer/exporter | Weighted- average dumping margin (percent)
Hyundai Steel Company | 0.00
POSCO/POSCO International Corporation | 0.00
Non-Selected Companies ¹⁰ | 0.00

Disclosure

Commerce intends to disclose the calculations performed for these final results to parties within five days of the date of publication of this notice in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review. Pursuant to 19 CFR 351.212(b)(1), Commerce calculated importer-specific ad valorem duty assessment rates based on the ratio of the total amount of dumping calculated for the examined sales to the total entered value of those sales. Where the respondent's weighted-average dumping margin is either zero or de minimis, we intend to instruct CBP to liquidate the appropriate entries without regard to antidumping duties. Because the weighted-average dumping margins for Hyundai, POSCO/PIC, and the 38 firms not selected for individual examination have been determined to be zero percent, we intend to instruct CBP to liquidate the appropriate entries without regard to antidumping duties. In accordance with Commerce's practice, for entries of subject merchandise during the POR produced by Hyundai or POSCO/PIC for which it did not know its merchandise was destined for the United States, we intend to instruct CBP to liquidate such entries at the all-others rate if there is no company-specific rate for the intermediate company(ies) involved in the transaction.¹¹

¹¹ See Antidumping and Countervailing Duty Proceedings: Assessment of Antidumping Duties, 68 FR 23954 (May 6, 2003).

Consistent with its recent notice,¹² Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this administrative review shall be the basis for the assessment of antidumping duties on entries of merchandise under review and for future cash deposits of estimated antidumping duties, where applicable.

¹² See Notice of Discontinuation of Policy to Issue Liquidation Instructions After 15 Days in Applicable Antidumping and Countervailing Duty Administrative Proceedings, 86 FR 3995 (January 15, 2021).

Cash Deposit Requirements

The following cash deposit requirements will be effective upon publication in the Federal Register of the notice of these final results for all shipments of the subject merchandise entered, or withdrawn from warehouse, for consumption on or after the publication date of the final results of this administrative review, as provided by section 751(a)(2)(C) of the Act: (1) The cash deposit rates for the reviewed companies will be the rates established in the final results of this administrative review; (2) for merchandise exported by producers or exporters not covered in this review but covered in a prior segment of the proceeding, the cash deposit rate will continue to be the company-specific rate published in the most recently completed segment of this proceeding; (3) if the exporter is not a firm covered in this review, a prior review, or the original LTFV investigation but the producer has been covered in a prior completed segment of this proceeding, then the cash deposit rate will be the rate established in the completed segment for the most recent period for the producer of the merchandise; and (4) the cash deposit rate for all other producers or exporters will continue to be 20.33 percent, the all-others rate established in the LTFV investigation.¹³ These cash deposit requirements, when imposed, shall remain in effect until further notice.

¹³ See Order.

Notification to Importers

This notice serves as a final reminder to importers of their responsibility under 19 CFR 351.402(f)(2) to file a certificate regarding the reimbursement of antidumping duties and/or countervailing duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

This notice is issued and published in accordance with sections 751(a)(1) and 777(i)(1) of the Act, and 19 CFR 351.213(h) and 351.221(b)(5).

Dated: March 11, 2022.
Lisa W. Wang,
Assistant Secretary for Enforcement and Compliance.

Appendix I—List of Topics Discussed in the Issues and Decision Memorandum

I. Summary

II. Background

III. Scope of the Order

IV. Changes Since the Preliminary Results

V. Rate for Non-Examined Companies

VI. Discussion of the Issue

Comment: Correction of Clerical Errors

VII. Recommendation

Appendix II—List of Companies Not Individually Examined

1. AJU Steel Co., Ltd.

2. Ameri-Source Korea

3. Dai Yang Metal Co., Ltd.

4. DCM Corporation

5. DK GNS Co., Ltd.

6. Dongbu Incheon Steel Co., Ltd

7. Dongbu Steel Co., Ltd.

8. Dongkuk Industries Co., Ltd.

9. Dongkuk Steel Mill Co., Ltd.

10. GS Global Corporation

11. Hanawell Co., Ltd.

12. Hankum Co., Ltd.

13. Hwashin Co. Ltd.

14. Hyosung TNC Corporation

15. Hyundai Corporation

16. JMP Co., Ltd.

17. KG Dongbu Steel Co., Ltd.

18. Korinox Co., Ltd.

19. Mikwang Precision Manufacture Co., Ltd.

20. Okaya Korea Co., Ltd.

21. POSCO Coated and Colored Steel Co., Ltd.

22. Samhwan Steel Co., Ltd.

23. Samsung C & T Corporation

24. Samsung Electronics Co., Ltd.

25. Samsung STS Co., Ltd.

26. SeAH Changwon Integrated Special Steel Corporation

27. SeAH Coated Metal Corporation

28. SeAH Steel Corporation

29. Shin Steel Co., Ltd.

30. Shin Young Co., Ltd.

31. Signode Korea Inc.

32. SK Networks Co., Ltd.

33. Soon Hong Trading Co., Ltd.

34. Sungjin Co., Ltd.

35. Taesan Corporation

36. TCC Steel Corporation

37. TI Automotive Ltd.

38. Wolverine Korea Co., Ltd.

[FR Doc. 2022-05692 Filed 3-17-22; 8:45 am]

BILLING CODE 3510-DS-P